NATIONAL FOUNDATION ON THE ARTS AND THE HUMANITIES

National Endowment for the Arts; Arts Advisory Panel

Pursuant to Section 10(a)(2) of the Federal Advisory Committee Act (Pub. L. 92-463), as amended, notice is hereby given that ten meetings of the Arts Advisory Panel to the National Council on the Arts will be held at the Nancy Hanks Center, 1100 Pennsylvania Avenue NW., Washington, DC 20506 as follows (ending times are approximate):

Arts Education (application review): November 29-December 2, 2011 in Room 714. This meeting, from 9 a.m. to 5:30 p.m. on November 29th-December 1st and from 9 a.m. to 3 p.m. on December 2nd, will be closed.

Visual Arts (application review): November 30-December 2, 2011 in Room 730. This meeting, from 9 a.m. to 5:30 p.m. on November 30th, from 9 a.m. to 6 p.m. on December 1st, and from 9 a.m. to 3:30 p.m. on December 2nd, will be closed.

Literature (application review): November 30-December 1, 2011 in Room 627. This meeting, from 9 a.m. to 6:30 p.m. on November 30th and from 9 a.m. to 5 p.m. on December 1st, will be closed.

Literature (application review): December 2, 2011 in Room 627. This meeting, from 9 a.m. to 6 p.m., will be closed.

Presenting (application review): December 5-6, 2011 in Room 627. This meeting, from 9 a.m. to 5:30 p.m. on December 5th and from 9 a.m. to 4:45 p.m. on December 6th, will be closed.

Design (application review): December 5-7, 2011 in Room 714. This meeting, from 9 a.m. to 5:30 p.m. on December 5th and 6th, and from 9 a.m. to 3 p.m. on December 7th, will be closed.

Theater (application review): December 7-9, 2011 in Room 716. This meeting, from 9 a.m. to 5:30 p.m. on December 7th, from 9 a.m. to 6 p.m. on December 8th, and from 9 a.m. to 3 p.m. on December 9th, will be closed.

Media Arts (application review): December 7-9, 2011 in Room 730. This meeting, from 9 a.m. to 5:45 p.m. on December 7th, from 9 a.m. to 6 p.m. on December 8th, and from 9 a.m. to 5 p.m. on December 9th, will be closed.

Opera (application review): December 12, 2011 in Room 716. This meeting, from 8:45 a.m. to 5:30 p.m., will be closed.

Opera (application review): December 13, 2011 in Room 716. This meeting, from 8:5 a.m. to 5:30 p.m., will be closed.

The closed portions of meetings are for the purpose of Panel review, discussion, evaluation, and recommendations on financial assistance under the National Foundation on the Arts and the Humanities Act of 1965, as amended, including information given in confidence to the agency. In accordance with the determination of the Chairman of February 15, 2011, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue NW., Washington, DC 20506, (202) 682-5532, TDY-TDD (202) 682-5496, at least seven (7) days prior to the meeting.

Further information with reference to these meetings can be obtained from Ms. Kathy Plowitz-Worden, Office of Guidelines & Panel Operations, National Endowment for the Arts, Washington, DC 20506, or call (202) 682-5691.

Dated: November 7, 2011.
Kathy Plowitz-Worden,
Panel Coordinator, Panel Operations, National Endowment for the Arts.

[FR Doc. 2011-29231 Filed 11-10-11; 8:45 am]

BILLING CODE 7537-01-P